DEPARTMENT OF AGRICULTURE

Rural Utilities Service

7 CFR Part 1703

RIN 0572-AB70

Distance Learning and Telemedicine Loan and Grant Program; Correction

AGENCY: Rural Utilities Service, USDA.

ACTION: Correction to direct final rule.

SUMMARY: This document contains a correction to the direct final rule, which was published Wednesday, January 23, 2002 (67 FR 3039). The regulations related to requirements for submitting an application for financial assistance affecting the grant program.

DATES: The direct final rule, which published at 67 FR 3039, and the correction, are effective March 11, 2002.

FOR FURTHER INFORMATION CONTACT: Marilyn J. Morgan, Chief, DLT Branch, Advanced Services Division, Rural Utilities Service, U.S. Department of Agriculture, 1400 Independence Ave., SW., STOP 1550, Washington, DC 20250-1550. Telephone: 202-720-0413; e-mail at mmorgan@rus.usda.gov; or, Fax: 202-720-1051.

SUPPLEMENTARY INFORMATION:

Need for Correction

As published, the direct final rule contains an error and information that may be misleading and is in need of clarification.

Correction of Publication

According, the publication on January 23, 2002, which was the subject of FR Doc. 02-1537, is corrected as follows:

On page 3041, in the first column, in amendatory instruction 9., in the second line, “(a)(4)” should read “(b)(4)''.

§ 1703.126 [Corrected]

On the same page, in the same column, in §1703.126, in the first line following the section heading, “(a)” should read “(b)”.

Dated: March 27, 2002.
Blaine D. Stockton,
Acting Administrator, Rural Utilities Service.

[FR Doc. 02-7927 Filed 4-3-02; 8:45 am]

BILLING CODE 3410-15-P